DEPARTMENT OF LABOR

Employment and Training Administration

[TA-W-57,327]

Westpoint Stevens, Bed Products Division, Lanett, AL; Notice of Termination of Investigation

Pursuant to section 221 of the Trade Act of 1974, as amended, an investigation was initiated on June 8, 2005, in response to a petition filed by a company official on behalf of workers at WestPoint Stevens, Bed Products Division, Lanett, Alabama.

The petitioner has requested that the petition be withdrawn. Consequently, the investigation has been terminated.

Signed in Washington, DC, this 20th day of July, 2005.
Elliott S. Kushner,
Certifying Officer, Division of Trade Adjustment Assistance.

[FR Doc. E5-4298 Filed 8-8-05; 8:45 am]

BILLING CODE 4510-30-P